DEPARTMENT OF JUSTICE

Notice of Lodging of Consent Decree Under the Oil Pollution Act of 1990

Notice is hereby given that on October 28, 2008, a proposed consent decree in United States of America and the State of Kansas v. Magellan Ammonia Pipeline et al. Civil Action No. 08-cv-2532, was lodged with the United States District Court for the District of Kansas.

The Complaint, filed by the Plaintiffs who are Trustees for natural resources, alleges that the Defendants are liable under Section 107 of the Comprehensive Environmental Response, Compensation, and Liability Act (“CERCLA”), 42 U.S.C. 9607(a), and Section 311 of the Clean Water Act (“CWA”), 33 U.S.C. 1321, for damages for injury to, destruction of, or loss of natural resources in or near Kingman, Kansas, resulting from the release of anhydrous ammonia from a pipeline owned and operated by Defendants on or about October 27, 2004.

In the Consent Decree, the Defendants have agreed to pay a total of $452,535 to the Trustees as Natural Resource Damages including past Natural Resource Damage Assessment costs. The Consent Decree also requires the Defendants to purchase a specified 160 acre parcel of property with natural resources equivalent to those injured, lost and destroyed by the ammonia release and transfer it to the Wichita State University Foundation, a non profit that will use the property for biological research and preserve it in perpetuity.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States of America, The State of Kansas v. Magellan Ammonia Pipeline, et al., Civil Action No. 08-cv-2532 Ref. No. 90-5-1-1-06074/3.

During the comment period, the Consent Decree may be examined on the following Department of Justice Web site: http://www.usdoj.gov/enrd/Consent_Decrees.html. A copy of the Consent Decree may also be examined at the Office of the United States Attorney, Western District of Washington, 700 Stewart Street Suite 5220, Seattle, WA 98101-1271 (206) 553-7970. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $13 (25 cents per page reproduction cost) payable to the United States Treasury or, if by e-mail or fax, forward a check in that amount to the Consent Decree Library at the stated address.

Maureen Katz,
Assistant Section Chief, Environmental Enforcement Section, Environment and Natural Resources.

[FR Doc. E8-26077 Filed 10-31-08; 8:45 am]

BILLING CODE 4410-15-P